DEPARTMENT OF COMMERCE

National Oceanic and Atmospheric Administration

RIN 0648-XO42

Marine Mammals; File Nos. 14197 and 782-1812

AGENCY: National Marine Fisheries Service (NMFS), National Oceanic and Atmospheric Administration (NOAA), Commerce.

ACTION: Notice; receipt of applications.

SUMMARY: Notice is hereby given that the U.S. Air Force, 30th Space Wing Civil Engineer Environmental Flight, Vandenberg Air Force Base, CA, has applied in due form for a permit to conduct research on marine mammals (File No. 14187); and NMFS National Marine Mammal Laboratory, Seattle, WA, has applied for a major amendment to Scientific Research Permit No. 782-1812 for research on marine mammals.

DATES: Written, telefaxed, or e-mail comments must be received on or before May 6, 2009.

ADDRESSES: The applications and related documents are available for review by selecting “Records Open for Public Comment” from the Features box on the Applications and Permits for Protected Species (APPS) home page, https://apps.nmfs.noaa.gov/index.cfm, and then selecting File No. 14197 or 782-1812 from the list of available applications.

These documents are also available upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include the File No. (14197 or 782-1812) in the subject line of the e-mail comment as a document identifier.

FOR FURTHER INFORMATION CONTACT: Tammy Adams or Kate Swails, (301)713-2289.

SUPPLEMENTARY INFORMATION: The subject permit and major amendment are requested under the authority of the Marine Mammal Protection Act of 1972, as amended (MMPA; 16 U.S.C. 1361 et seq.) and the regulations governing the taking and importing of marine mammals (50 CFR part 216).

File No. 14197. The proposed permit would authorize continued studies of the effects of noise from rocket and missile launches and subsequent launch-generated sonic booms on pinnipeds inhabiting Vandenberg Air Force Base (VAFB) and the northern Channel Islands (NCI). Continuing research would examine effects from new launch vehicles, including the Delta IV. Target species are Pacific harbor seals (Phoca vitulina richardii), California sea lions (Zalophus californianus), and northern elephant seals (Mirounga angustirostris). Anticipated research activities include capture with physical or chemical restraint, hearing tests, blood sampling, physiological measurements, and attachment of telemetry instruments. The applicant proposes to capture 50 harbor seals per year at VAFB, with incidental harassment of up to 600 harbor seals, 50 northern elephant seals, and 10 California sea lions annually. On the NCI, the applicant proposes to capture 450 harbor seals per year with incidental harassment of 2,700 animals annually, inclusive for the three targeted species. No mortalities are anticipated, but two incidental harbor seal deaths annually are requested at VAFB, as are two incidental deaths per species annually for the NCI. The permit is requested for a 5-year period.

File No. 782-1812. The proposed permit amendment would authorize an increase in the number of California sea lions that could be taken per year for the duration of the permit, which expires June 30, 2011. The location of the research would remain the California Channel Islands. The applicant is requesting changes in research protocols and objectives that require capture, marking, and sampling of additional animals, and would result in incidental harassment of additional animals. The permit would be amended to increase numbers of takes of California sea lions for (1) harassment incidental to live and dead pup censuses in the California Channel Islands; (2) capture of pups 4 to 11 months old for condition health studies; (3) evaluating various methods of chemical immobilization for adult males; (4) evaluating different handling and marking methods of pups; and (5) investigating the breeding system using molecular genetics and behavioral observations of adult males.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the applications to the Marine Mammal Commission and its Committee of Scientific Advisors.

Dated: March 31, 2009.
P. Michael Payne,
Chief, Permits, Conservation and Education Division, Office of Protected Resources, National Marine Fisheries Service.

[FR Doc. E9-7708 Filed 4-6-09; 8:45 am]

BILLING CODE 3510-22-S